DEPARTMENT OF COMMERCE

National Institute of Standards and Technology

National Institute of Standards and Technology Performance Review Board Membership

AGENCY: National Institute of Standards and Technology, Department of Commerce.

ACTION: Notice.

SUMMARY: This notice lists the membership of the National Institute of Standards and Technology Performance Review Board (NIST PRB) and supersedes the list published on September 15, 2017.

DATES: The changes to the NIST PRB membership list announced in this notice are effective August 27, 2018.

FOR FURTHER INFORMATION CONTACT: Didi Hanlein at the National Institute of Standards and Technology, (301) 975-3020 or by email at desiree.hanlein@nist.gov.

SUPPLEMENTARY INFORMATION: The National Institute of Standards and Technology Performance Review Board (NIST PRB or Board) reviews performance appraisals, agreements, and recommended actions pertaining to employees in the Senior Executive Service and ST-3104 employees. The Board makes recommendations to the appropriate appointing authority concerning such matters so as to ensure the fair and equitable treatment of these individuals.

This notice lists the membership of the NIST PRB and supersedes the list published in the Federal Register on September 15, 2017 (82 FR 43335).

NIST PRB Members:

Jennifer Ayers (C), Director, Office of the Secretary Financial Management, Department of Commerce, Washington, DC 20230, Appointment Expires: 12/31/18.

Joannie Chin (C) (alternate), Deputy Director, Engineering Laboratory, National Institute of Standards & Technology, Gaithersburg, MD 20899, Appointment Expires: 12/31/19.

Robert Fangmeyer (C) (alternate), Director, Baldrige Performance Excellence Program, National Institute of Standards & Technology, Gaithersburg, MD 20899, Appointment Expires: 12/31/18.

Howard Harary (C), Director, Engineering Laboratory, National Institute of Standards & Technology, Gaithersburg, MD 20899, Appointment Expires: 12/31/18.

James St. Pierre (C) (alternate), Deputy Director, Information Technology Laboratory, National Institute of Standards & Technology, Gaithersburg, MD 20899, Appointment Expires: 12/31/18.

Carroll Thomas (C), Director, Hollings Manufacturing Extension Partnership Program, National Institute of Standards & Technology, Gaithersburg, MD 20899, Appointment Expires: 12/31/19.

Alexander Zemek (NC), Chief of Staff, Bureau of Industry and Security, Washington, DC 20230, Appointment Expires: 12/31/19.

Authority: 5 U.S.C. 4301 et seq.

Kevin A. Kimball,
Chief of Staff.

[FR Doc. 2018-18435 Filed 8-24-18; 8:45 am]

BILLING CODE 3510-13-P